DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of eight persons that have been placed on OFAC's Specially Designated Nationals and Blocked Persons List based on OFAC's determination that one or more applicable legal criteria were satisfied. All property and interests in property subject to U.S. jurisdiction of these persons are blocked, and U.S. persons are generally prohibited from engaging in transactions with them.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On April 15, 2019, OFAC determined that the property and interests in property subject to U.S. jurisdiction of the following persons are blocked under the relevant sanctions authority listed below.

Individuals

1. AL-RAWI, Mushtaq Talib Zughayr (a.k.a. AL-HASHIMI, Mushtaq Talib Zughayar Karhut; a.k.a. AL-RAWI, Abu Mus'ab; a.k.a. AL-RAWI, Mushtaq; a.k.a. AL-RAWI, Mushtaq Talib; a.k.a. AL-RAWI, Mushtaq Talib Zaghayir), Turkey; Belgium; DOB 1964; alt. DOB 1969; Gender Male; Phone Number 905537471039 (individual) (Linked To: ISLAMIC STATE OF IRAQ AND THE LEVANT).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, the ISLAMIC STATE OF IRAQ AND THE LEVANT, an entity whose property and interests in property are blocked pursuant to E.O. 13224.

2. AL-RAWI, Umar Talib Zughayr (a.k.a. AL-HASHIMI, Umar Talib Zughayr; a.k.a. AL-RAWI, 'Umar Talib; a.k.a. AL-RAWI, Umar Talib Zughayr Karhoot; a.k.a. ZGHYR, 'Umr Talib; a.k.a. “AL-RAWI, Abu Umar”), Samsun, Turkey; al-Qa'im, Anbar Province, Iraq; Mersin Province, Turkey; DOB 1970; alt. DOB 1971; POB Iraq; nationality Iraq; Gender Male; Phone Number 907816941101; alt. Phone Number 9647734097694 (individual) [SDGT]. (Linked To: ISLAMIC STATE OF IRAQ AND THE LEVANT).

Designated pursuant to section 1(d)(i) of E.O. 13224 for assisting in, sponsoring, or providing financial, material, or technological support for, or financial or other services to or in support of, the ISLAMIC STATE OF IRAQ AND THE LEVANT, an entity whose property and interests in property are blocked pursuant to E.O. 13224.

3. AL-RAWI, Walid Talib Zughayr (a.k.a. AL-HASHIMI, Walid Talib Zughayr; a.k.a. AL-RAWI, Waleed Talib Zghayir Karhout; a.k.a. ZGHAIR, Waleed Talib Zghair; a.k.a. ZGHYR, Walid Talib; a.k.a. “AL-RAWI, Abu Khalid”), Baghdad, Iraq; DOB 11 Nov 1988; nationality Iraq; Email Address waleed198811@gmail.com; Gender Male; Phone Number 9647807890955; alt. Phone Number 96407707840824; alt. Phone Number 9647720364973; Passport A11071541 (individual) [SDGT]. (Linked To Mushtaq Talib Zughayr al-Rawi). (Linked To Umar Talib Zughayr al-Rawi).

Designated pursuant to section 1(d)(i) of E.O. 13224 for assisting in, sponsoring, or providing financial, material, or technological support for, or financial or other services to or in support of, MUSHTAQ TALIB ZUGHAYR AL-RAWI, an individual whose property and interests in property are blocked pursuant to E.O. 13224.

4. AL-RAWI, Muhannad Mushtaq Talib Zghayir Karhout (a.k.a. TALIB, Mohanad M.; a.k.a. TALIB, Muhannad Mushtaq; a.k.a. ZUGHAYAR, Muhanad Mushtaq; a.k.a. ZUGHAYAR, Muhanad Mushtaq Talib), Baghdad, Iraq; Samsun, Turkey; DOB 26 Dec 1996; POB Al-Qa'im, Iraq; nationality Iraq; Email Address mohand.alrawii@gmail.com; Gender Male; Phone Number 9647821757598; National Foreign ID Number 00167950 (Iraq) (individual) [SDGT]. (Linked To Mushtaq Talib Zughayr al-Rawi).

Designated pursuant to section 1(d)(i) of E.O. 13224 for assisting in, sponsoring, or providing financial, material, or technological support for, or financial or other services to or in support of, MUSHTAQ TALIB ZUGHAYR AL-RAWI, an individual whose property and interests in property are blocked pursuant to E.O. 13224.

5. AL-RAWI, Abd-al-Rahman 'Ali Husayn al-Ahmad (a.k.a. AL RAWI, Abdulrahman; a.k.a. AL-RAWI, Abd-al-Rahman; a.k.a. AL-RAWI, Abdul Rahman; a.k.a. AL-RAWI, Abu Abd Al Rahman), Turkey; DOB 1983; POB Albu Kamal, Dayr az Zawr Province, Syria; nationality Syria; Gender Male; Phone Number 905515983567; alt. Phone Number 9647718635788; alt. Phone Number 96351667406; alt. Phone Number 9647715959705 (individual) [SDGT]. (Linked To: ISLAMIC STATE OF IRAQ AND THE LEVANT).

Designated pursuant to section 1(d)(i) of E.O. 13224 for assisting in, sponsoring, or providing financial, material, or technological support for, or financial or other services to or in support of, the ISLAMIC STATE OF IRAQ AND THE LEVANT, an entity whose property and interests in property are blocked pursuant to E.O. 13224.

6. AL-RAWI, Muhammad Abd-al-Qadir Mutni Assaf (a.k.a. MATNEE, Mohammed Abdulqader; a.k.a. MATNI, Muhammad 'Abd-al-Qadir; a.k.a. MUTNI, Mohammad Abdul Kadir; a.k.a. MUTNI, Muhammad Abdul Qadar; a.k.a. “ABD-AL-QARIM, Abu”), Erbil, Iraq; DOB 15 Apr 1983; Gender Male; Passport G2590897 (individual) [SDGT]. (Linked To: ISLAMIC STATE OF IRAQ AND THE LEVANT).

Designated pursuant to section 1(d)(i) of E.O. 13224 for assisting in, sponsoring, or providing financial, material, or technological support for, or financial or other services to or in support of, the ISLAMIC STATE OF IRAQ AND THE LEVANT, an entity whose property and interests in property are blocked pursuant to E.O. 13224.

7. ALI, Halima Adan, Mombasa, Kenya; Nairobi, Kenya; DOB 10 Oct 1986; nationality Kenya; Gender Female; Passport A1659348 (Kenya); Kenyan ID No. 25142129; alt. Kenyan ID No. 22536936; alt. Kenyan ID No. 30760317; alt. Kenyan ID No. 22645786 (individual) (Linked To: ISLAMIC STATE OF IRAQ AND THE LEVANT).

Designated pursuant to section 1(d)(i) of E.O. 13224 for assisting in, sponsoring, or providing financial, material, or technological support for, or financial or other services to or in support of, the ISLAMIC STATE OF IRAQ AND THE LEVANT an entity whose property and interests in property are blocked pursuant to E.O. 13224.

Entity

1. AL-ARD AL-JADIDAH MONEY EXCHANGE COMPANY (a.k.a. AL ARDH AL JADIDA; a.k.a. AL-ARDH AL-JADEEDA EXCHANGE COMPANY; a.k.a. NEW LAND MONEY EXCHANGE COMPANY), Iraq; Hajin, Dayr az Zawr, Syria; Sanliurfa, Turkey; Phone Number 9647807798905; alt. Phone Number 964805611259; alt. Phone Number 9647905886647 [SDGT] (Linked To: ISLAMIC STATE OF IRAQ AND THE LEVANT).

Designated pursuant to section 1(d)(i) of E.O. 13224 for assisting in, sponsoring, or providing financial, material, or technological support for, or financial or other services to or in support of, the ISLAMIC STATE OF IRAQ AND THE LEVANT, an entity whose property and interests in property are blocked pursuant to E.O. 13224.

Dated: April 15, 2019.
Andrea Gacki,
Director, Office of Foreign Assets Control.

[FR Doc. 2019-07849 Filed 4-18-19; 8:45 am]

BILLING CODE 4810-AL-P